DEPARTMENT OF ENERGY

Federal Energy Regulatory Commission

[Docket No. CP00-422-000]

El Paso Gas Company; Notice of Intent To Prepare an Environmental Assessment for The Proposed Line No. 2000 Project and Request For Comments on Environmental Issues

October 12, 2000.

The staff of the Federal Energy Regulatory Commission (FERC) or Commission) will prepare an environmental assessment (EA) that will discuss the environmental impacts of the Line No. 2000 Project involving acquisition, construction and operation of facilities by El Paso Natural Gas Company (El Paso) extending from a point near Ehrenberg, Arizona to McCamey, Texas.¹ These facilities would consist of about 785 miles of an existing crude oil transmission pipeline to be acquired by El Paso and converted to a natural gas transmission pipeline as well as certain connecting pipelines and extensions to permit the line to be contiguous and integrated into El Paso's system. El Paso would also abandon in place existing mainline compression facilities at six compressor stations, totaling 119,750 horsepower. This EA will be used by the Commission in its decision-making process to determine whether the project is in the public convenience and necessity.

¹ El Paso's application was filed with the Commission on July 31, 2000, under Section 7 of the Natural Gas Act and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice El Paso provided to landowners. This fact sheet addresses a number of typically asked questions, including the use of eminent domain and how to participate in the Commission's proceedings. It is available for viewing on the FERC Internet website (www.ferc.fed.us).

Summary of the Proposed Project

El Paso proposes to improve the operating characteristics of its system by abandoning certain existing mainline compressor facilities on its South System and concurrently integrating into its system pipeline facilities to replace the abandoned compression. El Paso seeks authority to:

• Abandon in place five compressor stations (Deming in Luna County, New Mexico; San Simon and Benson in Cochise County, Arizona; Tucson in Pima County, Arizona; and Gila in Maricopa County, Arizona) which are presently in operation and the horsepower comprising the “A” and “B” Plants at the El Paso Compressor Station in El Paso County, Texas, all located on its South System;

• Acquire and clean approximately 785 miles of an existing crude oil transmission pipeline from its subsidiary EPNG Pipeline Company and convert it to a natural gas transmission pipeline;

• Construct a total of approximately 0.81 mile of new pipeline segments to bypass ten oil pump station sites;

• Construct new pipeline at two tie-in and four crossover locations;

• Construct a total of 2.78 miles of 30-inch-diameter pipeline to tie in Line No. 2000 to seven existing compressor stations (Guadalupe, Cornudas, Afton, Florida, Lordsburg, Casa Grande, and Wenden) on its South System and remove a total of approximately 0.68 mile of Line No. 2000 at these tie-ins;

• Replace four segments of Line No. 2000, totaling 8.16 miles, with 30-inch-diameter pipeline to meet U.S. Department of Transportation requirements;

• Install 38 new valves;

• Remove 29 plug vent valves;

• Remove seven check valve segments, fourteen gate valve segments, and a fee and gate valve and replace them with 30-inch-diameter pipeline;

• Install pigging facilities and flow measurement equipment (under section 2.55 of the Commission's regulations).

The general location of the project facilities is shown in appendix 1.²

² The appendices referenced in this notice are not being printed in the Federal Register. Copies are available on the Commission's website at the “RIMS” link or from the Commission's Public Reference and Files Maintenance Branch, 888 First Street, NE., Washington, DC. 20426, or call (202) 208-1371. For instructions on connecting to RIMS refer to the last page of this notice. Copies of the appendices were sent to all those receiving this notice in the mail.

Land Requirements for Construction

Construction of the proposed facilities would require about 320 acres of land. Following construction, about 3 acres would be maintained as new above-ground facility sites. The remaining 317 acres of land would be restored and allowed to revert to its former use, although some periodic vegetation maintenance may occur in some areas.

The EA Process

The National Environmental Policy Act (NEPA) requires the Commission to take into account the environmental impacts that could result from an action whenever it considers the issuance of a Certificate of Public Convenience and Necessity. NEPA also requires us ³ to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ “Us”, “we”, and “our” refer to the environmental staff of the FERC's Office of Energy Projects.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

Currently Identified Environmental Issues

The EA will discuss impacts that could occur as a result of the construction and operation of the proposed project. We have already identified several issues that we think deserve attention based on a preliminary review of the proposed facilities and the environmental information provided by El Paso. This preliminary list issues may be changed based on your comments and our analysis.

• Threatened and endangered species;

• Residences within 50 feet of construction work areas; and

• Public safety.

Public Participation

You can make a difference by providing us with your specific comments or concerns about the project. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

• Send original and two copies of your letter to:

David P. Boergers, Secretary, Federal Energy Regulatory Commission, 888 First St., NE., Room 1A, Washington, DC 20426;

• Label one copy of the comments for the attention of Gas 1, PJ-11.1;

• Reference Docket No. CP00-422-000; and

• Mail your comments so that they will be received in Washington, DC on or before November 13, 2000.

If you do not want to send comments at this time but want to remain on our mailing list, please return the Information Request (appendix 3). If you do not return the Information Request, you will be taken off the mailing list.

Becoming an Intervenor

In addition to involvement in the EA scoping process, you may want to become an official party to the proceeding known as an “intervenor”. Intervenors play a more formal role in the process. Among other things, intervenors have the right to receive copies of case-related Commission documents and filings by other intervenors. Likewise, each must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns maybe granted intervenor status upon showing good cause by stating that they have a clear and direct interest in this proceeding which would not be adequately represented by any other parties. You do not need intervenor status to have your environmental comments considered.

Additional information about the proposed project is available from the Commission's Office of External Affairs (202) 208-0004 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notice, and rulemakings. From the FERC Internet website, click on the “CIPS” link, select “Docket #” from the CIPS menu, and follow the instructions. For assistance with access to CIPS, the CIPS helpline can be reached at (202) 208-2474.

David P. Boergers,
Secretary,

[FR Doc. 00-26693 Filed 10-17-00; 8:45 am]

BILLING CODE 6717-01-M